DEPARTMENT OF ENERGY

Federal Energy Regulatory Commission

[Docket No. CP01-153-001]

Tuscarora Gas Transmission Company; Notice of Amendment

July 13, 2001.

Take notice that on July 6, 2001, Tuscarora Gas Transmission Company (Tuscarora), 1575 Delucchi Lane, Suite 225, Reno, Nevada 89520-3057, filed in Docket No. CP01-153-001, an amendment to its initial application for a certificate of public convenience and necessity filed in Docket No. CP01-153-000. With this amendment, Tuscarora is requesting authority to install, own, operate and maintain a booster unit rated at 637 horsepower and appurtenant facilities as part of Tuscarora's 2002 Expansion Project, all as more fully set forth in the application which is on file with the Commission and open to public inspection. Copies of this filing are on file with the Commission and are available for public inspection. This filing may also be viewed on the web at http://www.ferc.gov using the “RIMS” link, select “Docket#” and follow the instructions (call 202-208-2222 for assistance).

Tuscarora states that it is also filing modified Transportation Service Agreements between Tuscarora and Southwest Gas Corporation as described more fully in the amendment.

Tuscarora states that it filed the initial application for the 2002 Expansion Project on April 12, 2001 for authorization to construct, install, own, operate and maintain facilities necessary to render up to 95,912 dekatherms per day (Dth/d) of firm transportation service to four Expansion Shippers: Sierra Pacific Power Company, Southwest Gas Corporation, Duke Energy North America, L.L.C., and Morgan Stanley Capital Group Inc.

Tuscarora states that this amendment will not affect the total capacity under contract for the 2002 Expansion Project, nor the showing of market need reflected in the initial application. According to Tuscarora, the booster unit proposed in this amendment will be located within the new Paiute Interconnect Meter Station proposed as part of the 2002 Expansion Project and will not require additional land acquisition or ground disturbance. Tuscarora states that since the cost of the booster unit is estimated to be approximately $770,000, the proposed facilities will not affect the overall cost/revenue analysis. According to Tuscarora, this amendment will not affect the total capacity created by the 2002 Expansion Project or the construction schedule proposed in the April 12, 2001 application. Tuscarora states that it proposes to install the booster unit simultaneously with other facilities proposed in the 2002 Expansion Project, commencing in or about April 2002 to meet the first of its Expansion Shippers' in-service dates of November 1, 2002.

Any questions regarding this amendment should be directed to Terry Wolverton, Tuscarora Gas Transmission Company, 1575 Delucchi Lane, Suite 225, P.O. Box 30057, Reno, Nevada 89520-3057, call (775) 834-4292, or fax (775) 834-3886.

There are two ways to become involved in the Commission's review of this project. First, any person wishing to obtain legal status by becoming a party to the proceedings for this project should, on or before August 3, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

David P. Boergers,
Secretary.

[FR Doc. 01-18026 Filed 7-18-01; 8:45 am]

BILLING CODE 6717-01-P